DEPARTMENT OF LABOR

Employment and Training Administration

[TA-W-54,527]

Mountain Manufacturing & Distribution, Bend, OR; Notice of Termination of Investigation

Pursuant to section 221 of the Trade Act of 1974, as amended, an investigation was initiated on March 17, 2004, in response to a petition filed by a community representative on behalf of workers at Mountain Manufacturing & Distribution, Bend, Oregon.

The petitioner has withdrawn the petition. Consequently, this investigation has been terminated.

Signed in Washington, DC this 1st day of April, 2004.
Richard Church
Certifying Officer, Division of Trade Adjustment Assistance.

[FR Doc. E4-1004 Filed 5-3-04; 8:45 am]

BILLING CODE 4510-13-P